DEPARTMENT OF STATE

[Public Notice 3319]

Culturally Significant Objects Imported for Exhibition Determinations: “Distant Shores: The Odyssey of Rockwell Kent”

AGENCY: United States Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority No. 236 of October 19, 1999, as amended, I hereby determine that the objects to be included in the exhibition “Distant Shores: The Odyssey of Rockwell Kent” imported from abroad for the temporary exhibition without profit within the United States, are of cultural significance. These objects are imported pursuant to loan agreements with foreign lenders. I also determine that the exhibition or display of the exhibit objects at the Norman Rockwell Museum in Stockbridge, MA, from June 24, 2000 through October 29, 2000, the Appleton Museum of Art in Ocala, FL from November 18, 2000 through January 28, 2001, the Terra Museum of American Art in Chicago, IL from February 24, 2001 through May 20, 2001 and the Anchorage Museum of History and Art in Anchorage, AK from June 17, 2001 through September 23, 2001 is in the national interest. Public Notice of these Determinations is ordered to be published in the Federal Register.

FOR FURTHER INFORMATION CONTACT: For further information, including a list of exhibit objects, contact Jacqueline Caldwell, Attorney-Adviser, Office of the Legal Adviser, U.S. Department of State (telephone: 202/619-6982). The address is U.S. Department of State, SA-44, 301 4th Street, S.W., Room 700, Washington, D.C. 20547-0001.

Dated: May 19, 2000.
William B. Bader,
Assistant Secretary for Educational and Cultural Affairs, United States Department of State.

[FR Doc. 00-13451 Filed 5-26-00; 8:45 am]

BILLING CODE 4710-08-P